DEPARTMENT OF ENERGY

Federal Energy Regulatory Commission

[Docket No. RP04-188-002]

Great Lakes Gas Transmission Limited Partnership; Notice of Compliance Filing

May 6, 2004.

Take notice that on April 30, 2004, Great Lakes Gas Transmission Limited Partnership (Great Lakes) tendered for filing as part of its FERC Gas Tariff, Second Revised Volume No. 1, the following tariff sheets, proposed to be effective April 1, 2004:

First Revised Sheet No. 19

Substitute Tenth Revised Sheet No. 40

Substitute Original Sheet No. 50R

Substitute Original Sheet No. 50S

Substitute Original Sheet No. 50T

Great Lakes states that these tariff sheets are being filed to comply with the Commission's March 31, 2004, Order Accepting Tariff Sheets Subject to Condition, wherein the Commission accepted Great Lakes' tariff sheets as proposed in its February 27, 2004, tariff filing in Docket No. RP04-188-000, as generally complying with the Commission's recent decisions and evolving policy pertaining to creditworthiness issues in the industry, subject to certain modifications. Great Lakes explains that the Order directed it to file revised tariff sheets within thirty (30) days of the March 31 Order consistent with the Commission directives and modifications set forth in that Order.

Great Lakes is seeking clarification or rehearing of certain requirements of the March 31 Order in a separate filing submitted on the same day as the instant filing. This compliance tariff filing includes tariff sheets that incorporate the required modifications, with the exception of the modifications that are the subject of Great Lakes' request for clarification or rehearing.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1088 Filed 5-12-04; 8:45 am]

BILLING CODE 6717-01-P